SECURITIES AND EXCHANGE COMMISSION

[Extension: Rule 17a-4; SEC File No. 270-198; OMB Control No. 3235-0279]

Submission for OMB Review; Comment Request

Upon Written Request, Copies Available From: Securities and Exchange Commission, Office of Filings and Information Services, Washington, DC 20549.

Notice is hereby given that pursuant to the Paperwork Reduction Act of 1995 (44 U.S.C. 3501 et seq.), the Securities and Exchange Commission (“Commission”) has submitted to the Office of Management and Budget a request for extension of the previously approved collection of information discussed below.

Rule 17a-4, Records to be Preserved by Certain Exchange Members, Brokers and Dealers, requires approximately 7,525 active, registered exchange members, brokers and dealers (“broker-dealers”) to preserve for prescribed periods of time certain records required to be made by Rule 17a-3 and other Commission rules, and other kinds of records which firms make or receive in the ordinary course of business. Rule 17a-4 also permits broker-dealers to employ, under certain conditions, electronic storage media to maintain these required records. The records required to be maintained under Rule 17a-4 are used by examiners and other representatives of the Commission to determine whether broker-dealers are in compliance with, and to enforce their compliance with, the Commission's rules.

The staff estimates that the average number of hours necessary for each broker-dealer to comply with Rule 17a-4 is 250 hours annually.¹ Thus, the total burden for broker-dealers is 1,881,250 hours annually. The staff believes that compliance personnel would be charged with ensuring compliance with Commission regulation, including Rule 17a-4. The staff estimates that the hourly salary of a compliance manager is $82.50 per hour.² Based upon these numbers, the total cost of compliance for 7,525 respondents is $155,203,125 per year.³

¹ In a previous submission, the burden was estimated to be 1 hour per broker-dealer per day, with an additional 15 minutes per broker-dealer per year relating to electronic storage technology. The 60-day notice, which appeared in the Federal Register, utilized that previously used estimate to calculate the hourly burden. Upon further consideration, this estimate has been decreased to 1 hour per broker-dealer per day because the staff believes that advances in technology and increased efficiencies allow broker-dealers that use electronic storage technologies to spend less time on record retention and compliance with Rule 17a-4.

² Securities Industry Association, Management and Professional Earnings, Table 051 (Compliance Manager) + 35% overhead (based on end-of-year 1998) figures.

³ (1 hour per day x 250 days x 7,525 active, registered broker-dealer respondents) = 1,881,250 total hours per year. (1,881,250 hours x $82.50 per hour) = $155,203,125 per year.

General comments regarding the estimated burden hours should be directed to the following persons: (i) Deck Officer for the Securities and Exchange Commission, Office of Information and Regulatory Affairs, Office of Management and Budget, Room 3208, New Executive Office Building, Washington, DC 20503; and (ii) Michael E. Bartell, Associate Executive Director, Office of Information Technology, Securities and Exchange Commission, 450 Fifth Street, NW. Washington, DC 20549. Comments must be submitted to OMB within thirty days of this notice.

Dated: April 13, 2001.
Margaret H. McFarland,
Deputy Secretary.

[FR Doc. 01-9842 Filed 4-19-01; 8:45 am]

BILLING CODE 8010-01-M